DEPARTMENT OF JUSTICE

Antitrust Division

Notice Pursuant to the National Cooperative Research and Production Act of 1993—Cooperative Research Group on Consortium for NASGRO, Development and Support

Notice is hereby given that, on July 14, 2022, pursuant to section 6(a) of the National Cooperative Research and Production Act of 1993, 15 U.S.C. 4301 et seq. (“the Act”), Southwest Research Institute: Cooperative Research Group on Consortium for NASGRO Development and Support (“NASGRO”) has filed written notifications simultaneously with the Attorney General and the Federal Trade Commission disclosing changes in its membership. The notifications were filed for the purpose of extending the Act's provisions limiting the recovery of antitrust plaintiffs to actual damages under specified circumstances. Specifically, Lockheed Martin Corporation, Bethesda, MD; Airbus Canada Limited Partnership, Quebec, CANADA; and The Aerospace Corporation, El Segundo, CA have been added as parties to this venture.

Also, Triumph Aerostructures, LLC, Arlington, TX has withdrawn as a party to this venture.

Additionally, Hamilton Sundstrand Corporation and Goodrich Corporation, both subsidiaries of UTC Aerospace Systems Company, have changed their names to Raytheon Technologies Corporation, Waltham, MA.

No other changes have been made in either the membership or planned activity of the group research project. Membership in this group research project remains open, and NASGRO intends to file additional written notifications disclosing all changes in membership.

On October 3, 2001, NASGRO filed its original notification pursuant to section 6(a) of the Act. The Department of Justice published a notice in the Federal Register pursuant to section 6(b) of the Act on January 22, 2002 (67 FR 2910).

The last notification was filed with the Department on February 6, 2020. A notice was published in the Federal Register pursuant to section 6(b) of the Act on February 27, 2020 (85 FR 11392).

Suzanne Morris,
Chief, Premerger and Division Statistics, Antitrust Division.

[FR Doc. 2022-19653 Filed 9-9-22; 8:45 am]

BILLING CODE P